DEPARTMENT OF COMMERCE

Foreign-Trade Zones Board

[Docket 9-2003]

Foreign-Trade Zone 148—Knoxville, Tennessee, Area; Application for Expansion

An application has been submitted to the Foreign-Trade Zones (FTZ) Board (the Board) by the Industrial Development Board of Blount County, grantee of Foreign-Trade Zone 148, requesting authority to expand FTZ 148, in the Knoxville, Tennessee, area, adjacent to the Knoxville Customs port of entry. The application was submitted pursuant to the provisions of the Foreign-Trade Zones Act, as amended (19 U.S.C. 81a-81u), and the regulations of the Board (15 CFR part 400). It was formally filed on February 6, 2003.

FTZ 148 was approved on June 28, 1988 (Board Order 384, 53 FR 26095, 7/11/88). The zone project currently consists of the following sites: Site 1 (45.6 acres)—within the Bill Mullins Warehouse Park, Prosser Road, Knoxville; Site 2 (4.5 acres)—Blount County Industrial Park, some five miles south of McGhee Tyson Airport, Maryville; Site 2A (27,000 sq. ft)—McGhee Tyson Airport, some 3 miles north of Site 2, Alcoa; and, Site 3 (6.5 acres)—Valley Industrial Park, State Route 62, Oak Ridge.

The applicant is now requesting authority to expand the general-purpose zone to include an additional site (54 acres) in Crossville: Proposed Site 4 (54 acres)—within the CoLinx warehousing facilities, 1536 Genesis Road, Crossville. The site is owned by the Industrial Development Board of Cumberland County and the City of Crossville. It will be operated by CoLinx LLC, a logistics services provider. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099—14th Street, NW., Washington, DC 20005; or

2. Submissions via the U.S. Postal Service: Foreign-Trade Zones Board, U.S. Department of Commerce, FCB—Suite 4100W, 1401 Constitution Avenue, NW., Washington, DC 20230.

The closing period for their receipt is April 28, 2003. Rebuttal comments in response to material submitted during the foregoing period may be submitted during the subsequent 15-day period (to May 13, 2003).

A copy of the application and accompanying exhibits will be available for public inspection at the Office of the Foreign-Trade Zones Board's Executive Secretary at the first address listed above, and at the Office of the U.S. Customs Service, Duncan Federal Building, 710 Locust Street, Room 435, Knoxville, Tennessee 37902.

Dated: February 6, 2003.
Dennis Puccinelli,
Executive Secretary.

[FR Doc. 03-4580 Filed 2-26-03; 8:45 am]

BILLING CODE 3510-DS-P